DEPARTMENT OF HOMELAND SECURITY

Coast Guard

33 CFR Part 162

[Docket No. USCG-2012-0952]

RIN 1625-AB95

Inland Waterways Navigation Regulation: Sacramento River, CA

AGENCY: Coast Guard, DHS.

ACTION: Direct final rule; confirmation of effective date.

SUMMARY: The Coast Guard is confirming the removal of the Decker Island restricted anchorage area in the Sacramento River. The restricted anchorage area was needed in the past to prevent non-government vessels from transiting through or anchoring in the United States Army's tug and barge anchorage zones. The United States Army relinquished control of the Island in 1975. A direct final rule detailing the removal of the restricted anchorage regulation was published in the Federal Register on January 23, 2013. We received no comments in response, therefore, the rule will go into effect as scheduled.

DATES: The effective date of the direct final rule published January 23, 2013 (78 FR 4785) is confirmed as April 23, 2013.

FOR FURTHER INFORMATION CONTACT: If you have questions on this notice, call or email Lieutenant Lucas Mancini, U.S. Coast Guard Eleventh District; telephone (510) 437-3801 or email Lucas.W.Mancini@uscg.mil.

SUPPLEMENTARY INFORMATION: On January 23, 2013, we published a direct final rule and request for comment entitled, “Inland Waterways Navigation Regulation: Sacramento River, CA” in the Federal Register (78 FR 4785). That rule announced our intent to update the inland waterways navigation regulations by removing the Decker Island restricted anchorage described in 33 CFR 162.205(c).

In the direct final rule we notified the public of our intent to make the rule effective on April 23, 2013, unless an adverse comment, or notice of intent to submit an adverse comment, was received on or before March 25, 2013. We did not receive any comments or notices of intent to submit an adverse comment on the rule. Therefore, under 33 CFR 1.05-55(d), we now confirm that the removal of the Decker Island restricted anchorage will become effective, as scheduled, on April 23, 2013.

Dated: April 9, 2013.
K.L. Schultz,
Rear Admiral, U.S. Coast Guard, Commander, Eleventh Coast Guard District.

[FR Doc. 2013-09518 Filed 4-22-13; 8:45 am]

BILLING CODE 9110-04-P